DEPARTMENT OF THE INTERIOR

National Park Service

[NPS-WASO-NRNHL-DTS#-30887; PPWOCRADI0, PCU00RP14.R50000]

National Register of Historic Places; Notification of Pending Nominations and Related Actions

AGENCY: National Park Service, Interior.

ACTION: Notice.

SUMMARY: The National Park Service is soliciting electronic comments on the significance of properties nominated before September 12, 2020, for listing or related actions in the National Register of Historic Places.

DATES: Comments should be submitted electronically by October 15, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before September 12, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

TEXAS

Nueces County

Old Bayview Cemetery, Ramirez St. at Padre St., Corpus Christ, SG100005689

Sterling County

Sterling City Gulf, Colorado & Santa Fe Railway Passenger Depot, (Gulf, Colorado and Santa Fe Railway Depots of Texas MPS), 415 Stadium Ave., Sterling City, MP100005690

Additional documentation has been received for the following resources:

ALABAMA

Mobile County

Bishop Manor Estate (Additional Documentation), Argyl Rd., St. Elmo, AD85000255

OHIO

Cuyahoga County

May Company (Additional Documentation), 158 Euclid Ave. at Public Sq., Cleveland, AD74001443

Nomination submitted by Federal Preservation Officer:

The State Historic Preservation Officer reviewed the following nomination and responded to the Federal Preservation Officer within 45 days of receipt of the nomination and supports listing the property in the National Register of Historic Places.

PUERTO RICO

Arecibo Municipality

National Astronomy and Ionosphere Center (Additional Documentation), Esperanza Ward, San Rafael Sector, Rd. 625, Arecibo vicinity, AD07000525

Authority: Section 60.13 of 36 CFR part 60.

Dated: September 15, 2020.
Sherry A. Frear,
Chief, National Register of Historic Places/National Historic Landmarks Program.

[FR Doc. 2020-21584 Filed 9-29-20; 8:45 am]

BILLING CODE 4312-52-P